DEPARTMENT OF ENERGY

Federal Energy Regulatory Commission

Combined Notice of Filings #2

Take notice that the Commission received the following electric rate filings:

Docket Numbers: ER12-2275-001; EC14-129-001.

Applicants: Lexington Power & Light, LLC.

Description: Notice of Material Change in Status of Lexington Power & Light, LLC.

Filed Date: 6/15/16.

Accession Number: 20160615-5163.

Comments Due: 5 p.m. ET 7/6/16.

Docket Numbers: ER14-2952-005.

Applicants: Midcontinent Independent System Operator, Inc.

Description: Report Filing: 2016-06-15_SSR Cost Allocation Refund Report Supplement to be effective N/A.

Filed Date: 6/15/16.

Accession Number: 20160615-5028.

Comments Due: 5 p.m. ET 7/6/16.

Docket Numbers: ER16-425-003.

Applicants: New York Independent System Operator, Inc.

Description: Compliance filing: Compliance re: effective date scarcity pricing spplmntl rvsns to be effective 6/30/2016.

Filed Date: 6/16/16.

Accession Number: 20160616-5132.

Comments Due: 5 p.m. ET 6/28/16.

Docket Numbers: ER16-1944-000.

Applicants: PJM Interconnection, L.L.C.

Description: Section 205(d) Rate Filing: Amendment to WMPA SA No. 3236, Queue No. W4-064 to be effective 3/6/2015.

Filed Date: 6/16/16.

Accession Number: 20160616-5096.

Comments Due: 5 p.m. ET 7/7/16

Docket Numbers: ER16-1945-000.

Applicants: Southwest Power Pool, Inc.

Description: Section 205(d) Rate Filing: 3211 NIMECA NITSA NOA; Cancellation of 3124 Basin NITSA NOA to be effective 6/1/2016.

Filed Date: 6/16/16.

Accession Number: 20160616-5098.

Comments Due: 5 p.m. ET 7/7/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 16, 2016.
Kimberly D. Bose,
Secretary.

[FR Doc. 2016-14765 Filed 6-21-16; 8:45 am]

BILLING CODE 6717-01-P